DEPARTMENT OF COMMERCE

International Trade Administration

U.S. Healthcare Trade Mission to Russia— Amendment

AGENCY: International Trade Administration, Department of Commerce.

ACTION: Amendment to Notice.

SUMMARY: The United States Department of Commerce, International Trade Administration, U.S. and Foreign Commercial Service (CS) is publishing this supplement to the Notice of the U.S. Healthcare Trade Mission to Russia published at 77 FR 77032, December 31, 2012, to amend the Notice to revise the dates of the application deadline from March 15, 2013 to the new deadline of March 29, 2013.

SUPPLEMENTARY INFORMATION:

Amendments To Revise the Dates

Background

Recruitment for this Mission began in January, 2013. Due to the recent snow closures and upcoming Easter holiday season, it has been determined that an additional time is needed to allow for additional recruitment and marketing in support of the mission. Applications will be now be accepted through March 29, 2013 (and after that date if space remains and scheduling constraints permit), interested U.S. healthcare firms and trade organizations which have not already submitted an application are encouraged to do so as soon as possible.

Amendments

1. For the reasons stated above, the Timeframe for Recruitment and Applications section of the Notice of the U.S. Healthcare Trade Mission to Russia published at 77 FR 77032, December 31, 2012, is amended to read as follows:

Timeframe for Recruitment and Applications

Mission recruitment will be conducted in an open and public manner, including publication in the Federal Register (http://www.gpoaccess.gov/fr), posting on ITA's trade mission calendar—http://export.gov/trademissions—and other Internet web sites, press releases to general and trade media, direct mail, broadcast fax, notices by industry trade associations and other multiplier groups, and publicity at industry meetings, symposia, conferences, and trade shows. Recruitment will conclude no later than Friday, March 29, 2013. The U.S. Department of Commerce will review applications and make selection decisions on a rolling basis until the maximum of fifteen participants is reached. We will inform all applicants of selection decisions as soon as possible after the applications are reviewed. Applications received after the March 29nd deadline will be considered only if space and scheduling constraints permit

FOR FURTHER INFORMATION CONTACT: Jessica Arnold, Commercial Service Trade Missions Program, Tel: 202-482-2026, Fax: 202-482-9000, Email: jessica.arnold@trade.gov.

Elnora Moye,
Trade Program Assistant.

[FR Doc. 2013-06796 Filed 3-25-13; 8:45 am]

BILLING CODE 3510-FP-P